DEPARTMENT OF HEALTH AND HUMAN SERVICES

National Institutes of Health

Office of the Director, National Institutes of Health Amended; Notice of Meeting

Notice is hereby given of a change in the meeting of the Council of Councils, September 11, 2020, 08:15 a.m. to 04:00 p.m., National Institutes of Health, Natcher Building, Building 45 Room D, C1/C2 and G1/G2, 45 Center Drive, Bethesda, MD 20892 which was published in the Federal Register on December 16, 2019, 84 FR 68467.

The meeting notice is amended to change the open and closed session meeting times as follows: The open session will now be held from 10:15 a.m. to 1:00 p.m. and from 2:15 p.m. to 4:55 p.m. with the closed session held from 1:00 p.m. to 2:00 p.m. This notice is also being amended to change the meeting location from National Institutes of Health, Natcher Building, Building 45 Room D, C1/C2 and G1/G2, 45 Center Drive, Bethesda, MD 20892 to a virtual meeting. The url link to this meeting can be found at: http://videocast.nih.gov/. Any member of the public may submit written comments no later than 15 days after the meeting.

Dated: August 12, 2020.
Ronald J. Livingston, Jr.,
Program Analyst, Office of Federal Advisory Committee Policy.

[FR Doc. 2020-17907 Filed 8-14-20; 8:45 am]

BILLING CODE 4140-01-P